DEPARTMENT OF TRANSPORTATION

Surface Transportation Board

[STB Finance Docket No. 33801]

Wisconsin & Southern Railroad Company—Acquisition Exemption—Lines of Soo Line Railroad Company d/b/a Canadian Pacific Railway

Wisconsin & Southern Railroad Company (WSOR), a Class III rail common carrier, has filed a notice of exemption under 49 CFR 1150.41 to acquire and operate approximately 6.73 miles of a series of short rail lines in North Milwaukee, WI, known as the Gibson Line or the Gibson Spur, owned by Soo Line Railroad Company d/b/a Canadian Pacific Railway (CPR),¹ which it currently leases and operates from CPR.²

¹ WSOR states in its notice that it has executed an asset purchase agreement with CPR to acquire the above-described rail lines.

² See Wisconsin & Southern Railroad Co.—Lease and Operation Exemption—Soo Line Railroad Company, d/b/a CP Rail System, Finance Docket No. 32706 (ICC served July 14, 1995).

The lines to be acquired are as follows: (1) The Horicon Line, from Point A at milepost 93.72, the division of ownership with the State of Wisconsin, to Point B at milepost 93.20 in the vicinity of Glendale Yard; (2) the Canco Line, from Point B at milepost 93.20 extending in a northerly direction to Point C at milepost 95.18, the division of ownership with the Wisconsin Central Limited; (3) the Nut Line, from Point B at milepost 93.20 extending in a southeasterly direction to Point E at milepost 96.76; and (4) the Cement Line, an industry spur extending from switch with the Nut Line milepost 95.47 to Point D, at the end of the track, .67 miles east of the Nut Line switch.

Because the projected revenues of the rail line to be operated exceed $5 million, WSOR certified to the Board, on September 21, 1999, that the required notice of its rail line acquisition was posted at the workplace of the employees on the affected lines on that same date. See 49 CFR 1150.42(e).

WSOR reported that it intends to consummate the transaction more than 7 days after the filing of this exemption, or no later than June 5, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33801, must be filed with the Surface Transportation Board, Office of the Secretary, Case Control Unit, 1925 K Street, N.W., Washington, DC 20423-0001. In addition, one copy of each pleading must be served on John D. Heffner, REA, CROSS & AUCHINCLOSS, Suite 570, 1707 L Street, N.W., Washington, DC 20036.

Board decisions and notices are available on our website at “WWW.STB.DOT.GOV.”

Decided: May 30, 2000.
By the Board, David M. Konschnik, Director, Office of Proceedings.
Vernon A. Williams,
Secretary.

[FR Doc. 00-13995 Filed 6-2-00; 8:45 am]

BILLING CODE 4915-00-U